INTERNATIONAL TRADE COMMISSION

[Investigation No. 337-TA-619]

In the Matter of Certain Flash Memory Controllers, Drives, Memory Cards, and Media Players and Products Containing Same; Notice of Commission Decision Not To Review an Initial Determination Granting Complainant's Motion to Amend the Notice of Investigation

AGENCY: U.S. International Trade Commission.

ACTION: Notice.

SUMMARY: Notice is hereby given that the U.S. International Trade Commission has determined not to review an initial determination (“ID”) (Order No. 25) issued by the presiding administrative law judge (“ALJ”) in the above-referenced investigation granting complainant's motion to amend the notice of investigation.

FOR FURTHER INFORMATION CONTACT: Michelle Walters, Office of the General Counsel, U.S. International Trade Commission, 500 E Street, SW., Washington, DC 20436, telephone (202) 708-5468. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 12, 2007, based on a complaint filed by SanDisk Corporation. The complaint alleges violations of section 337 of the Tariff Act of 1930 (19 U.S.C. 1337) in the importation into the United States, the sale for importation, and the sale within the United States after importation of certain flash memory controllers, drives, memory cards, media players, and products containing the same by reason of infringement of various claims of five United States patents. The complaint names nearly fifty respondents.

On March 6, 2008, complainant SanDisk filed an unopposed motion to amend the notice of investigation to correct the names of certain respondents pursuant to Commission Rule 210.14(b). SanDisk asserts that there is no dispute as to which parties are named in the notice of investigation, but that the following three errors should be corrected with regard to the names of the respondents in the notice of investigation: “Chipsbank Technology (Shenzhen) Co., Ltd.” should be changed to “Chipsbank Technologies (Shenzhen) Co., Ltd.;” “Chipsbank Microelectronics Co., Ltd.” should be changed to “Shenzhen Chipsbank Microelectronics Co., Ltd.;” and “Dane-Elec Memory S.A.” should be changed to “Dane Memory S.A., d/b/a Dane-Elec Memory S.A.”

On March 12, 2008, the ALJ granted SanDisk's motion, finding good cause to amend the notice of investigation to reflect the corrected corporate names. No petitions for review were filed.

The Commission has determined not to review the ALJ's ID.

The authority for the Commission's determination is contained in section 337 of the Tariff Act of 1930, as amended (19 U.S.C. 1337), and in section 210.42 of the Commission's Rules of Practice and Procedure (19 CFR 210.42).

Issued: March 28, 2008.
By order of the Commission.
Marilyn R. Abbott,
Secretary to the Commission.

[FR Doc. E8-6869 Filed 4-2-08; 8:45 am]

BILLING CODE 7020-02-P